DEPARTMENT OF COMMERCE

Foreign-Trade Zones Board

[Docket 64-2011]

Foreign-Trade Zone 272—Counties of Lehigh and Northampton, PA; Application for Reorganization/Expansion Under Alternative Site Framework

An application has been submitted to the Foreign-Trade Zones (FTZ) Board (the Board) by the Lehigh Valley Economic Development Corporation, grantee of FTZ 272, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 13, 2011.

FTZ 272 was approved by the Board on April 5, 2007 (Board Order 1502, 72 FR 18960, 04/16/07), and expanded on February 13, 2009 (Board Order 1605, 74 FR 8903, 02/13/09), and on May 13, 2010 (Board Order 1679, 75 FR 29975-29976, 05/28/10).

The current zone project includes the following sites: Site 1 (727 acres)—Lehigh Valley Industrial Park VII at Bethlehem Commerce Center, 1805 E, 4th St., Bethlehem; Site 2 (96 acres)—Arcadia East Industrial Park (Lot 3), Route 512 and Silver Crest Rd., East Allen Township; Site 3 (83 acres)—Arcadia West Industrial Park (Lots 2, 5, 6 and 7), I-78 and Route 863, Weisenburg Township; Site 4 (226 acres)—West Hills Business Center, I-78 and Route 863, Weisenburg Township; Site 5 (399 acres)—Liberty Business Center, Industrial Blvd. and Boulder Dr., Breinigsville; Site 6 (183 acres)—Lehigh Valley West Corporate Center, Nestle Way and Schantz Rd., Breinigsville; Site 7 (213 acres)—LogistiCenter, 4950 Hanoverville Rd., Bethlehem; Site 8 (163 acres)—ProLogis Park 33, 3819 and 3850 ProLogis Parkway, Lower Nazareth; and, Site 9 (442 acres)—Majestic Bethlehem Center, 3001 Commerce Blvd., Bethlehem.

The grantee's proposed service area under the ASF would be the Counties of Lehigh and Northampton, Pennsylvania, as described in the application. If approved, the grantee would be able to serve sites throughout the service area based on companies' needs for FTZ designation. The proposed service area is within and adjacent to the Lehigh Valley Customs and Border Protection port of entry.

The applicant is requesting authority to reorganize its existing zone project to remove Sites 2-4 and to include existing sites 1, 5, 6, 7, 8, and 9 as magnet sites. The ASF allows for the possible exemption of one magnet site from the “sunset” time limits that generally apply to sites under the ASF, and the applicant proposes that Site 1 be so exempted. The applicant is also requesting approval of the following initial “usage-driven” site: Proposed Site 10 (21 acres)—Sigma Aldrich Chemical Company, 6950 Ambassador Drive, Allentown, Lehigh County, Pennsylvania. Because the ASF only pertains to establishing or reorganizing a general-purpose zone, the application would have no impact on FTZ 272's authorized subzone.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is December 19, 2011. Rebuttal comments in response to material submitted during the foregoing period may be submitted during the subsequent 15-day period to January 3, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Kathleen Boyce at Kathleen.Boyce@trade.gov or (202) 482-1346.

Dated: October 13, 2011.
Andrew McGilvray,
Executive Secretary.

[FR Doc. 2011-27213 Filed 10-19-11; 8:45 am]

BILLING CODE P